FEDERAL EMERGENCY MANAGEMENT AGENCY

Cooperating Technical Partners

AGENCY: Federal Emergency Management Agency (FEMA).

ACTION: Notice of cooperating technical partners flood hazard mapping initiative (formerly known as Cooperating Technical Communities).

SUMMARY: We (FEMA) give notice of the Cooperating Technical Partners initiative that will recognize and encourage participation by states, regional agencies, and communities in the flood hazard mapping process.

DATES: Funding available May 4, 2001 for FY 2001.

FOR FURTHER INFORMATION CONTACT: Your FEMA Regional Cooperating Technical Partners Coordinator. We list contact names for the coordinators under Section (h) of this document.

SUPPLEMENTARY INFORMATION: (a) Background. Throughout this notice, the terms “we,” “our,” and “us,” refers to FEMA. The term “Partner” (upper case “P”) or “CTP” refers to a participant in the CTP initiative. We administer the National Flood Insurance Program (NFIP) and under section 1360 of the National Flood Insurance Act of 1968, as amended (42 U.S.C. 4101), we establish and update flood-risk zone data in floodplain areas. In the identification of flood-prone areas, we may consult with, receive information from, and enter into agreements or other arrangements with the head of any State, regional, or local agency in order to identify these floodplain areas.

We are implementing the Cooperating Technical Partners (CTP) concept as part of our Flood Map Modernization plan (http://www.fema.gov/library/mapmod.pdf). The initiative was formerly known as Cooperating Technical Communities. The CTP initiative will formally recognize and encourage the ongoing contributions that our mapping partners—States, regional agencies, and communities—make in assisting us in providing timely and accurate flood hazard information. The participating entity will enter into a partnership agreement with us to develop or maintain all or a component of its flood hazard maps.

CTP collaborations will maximize the effectiveness of the limited local and Federal funding available for flood mapping, while maintaining consistent national standards. Through these partnerships, the integration of locally funded or developed flood and mapping data in the flood mapping process will enable contributing partners to expand the scope of our flood mapping efforts. We expect that this will result in enhanced responsibility for the maps by the partners and, in turn, heightened local awareness of flood risks, more effective floodplain management, and more accurate maps. The Cooperating Technical Partners initiative includes both locally funded and FEMA-funded activities.

Under the initiative, the Partner and we will enter a general overall agreement (CTP Agreement) that recognizes the fundamental importance of flood hazard identification, as well as flood insurance and floodplain management. Then, as the CTP and we identify specific flood mapping activities to undertake, the CTP and we will develop and enter into Mapping Activity Agreements under the umbrella of the overall CTP Agreement.

We envision that most Mapping Activity Agreements will be collaborative efforts where both the CTP and FEMA contribute data and units of work to maximize the extent, accuracy, and utility of flood studies to best meet local and Federal needs, while minimizing costs for all parties. Federal funding will be limited even if we can allocate supplemental map modernization funding. In any event, we will allocate funding within the context of our flood study prioritization process.

Additional Guidance is available at http://www.fema.gov/mit/tsd/CPT_main.htm.

(b) Availability of Fiscal Year 2001 Funds. We have set aside approximately $8 million nation-wide for use by all FEMA Regional offices to fund CTP mapping activities in Fiscal Year 2001. We base the selection of CTP participants on floodplain mapping needs and on the partners' interest, contributions, and their capability to perform the types of eligible activities that we identified for the CTP initiative. Funding will be provided to eligible CTP applicants through the Cooperative Agreement process in accordance with Title 44 of the Code of Federal Regulations (CFR), part 13. Request for Federal Assistance (RFA) packages will be mailed to potential applicants from the FEMA Regional offices upon publication of this notice.

(c) Eligibility. We intend the cooperative agreements awarded in this effort to supplement and not supplant on-going mapping efforts by the community, regional agency, or State. The FEMA funds would be in addition to the partner's current flood hazard mapping effort. Our Regional Offices will select partners based on the following criteria:

(1) The CTP applicant must have existing processes or systems in place that support mapping or data collection activities that contribute to flood hazard identification. These ongoing processes or systems must be supported by non-federal funding.

(2) The CTP applicant must have demonstrated the capability and commitment to perform the mapping activities for which it is applying. This capability may be indicated through (but not limited to) a FEMA Regional Office review of both previously prepared map products and of the Partner's existing processes or systems for the production of map products that are intended by the Partner to be utilized for CTP activities.

(3) The CTP applicant must be a community participating in the NFIP, and be in good standing in the program as determined by our Regional Office, or be a State or regional agency that serves communities that participate in the NFIP.

(4) The CTP applicant that will be receiving funds under a cooperative agreement must be able to perform the financial management activities required as part of the cooperative agreement (i.e., account for federal funds, prepare required performance and financial reports). Our regional offices will assist the communities with these financial management activities. FEMA-funded activities must meet the requirements of 44 CFR part 13, Uniform Administrative Requirements for Grants and Cooperative Agreements to State and Local Governments. Part 13 sets forth requirements for proper grant administration and management including, but not limited to, record-keeping, allowable costs, and the processes for use of contractors.

(5) The CTP applicant must have in-house staff capabilities in the appropriate technical area for the given activity. If a portion of the activities is contracted, the CTP partner must have in-house staff capability to monitor the contractor as well as review and approve the products. For these purposes, “capability” means demonstrated experience in the performance of, or management through contracting of, similar activities.

(6) The CTP that will be utilizing a contractor to perform FEMA-funded activities must ensure that those contractors meet the requirements of 44 CFR part 13, Uniform Administrative Requirements for Grants and Cooperative Agreements to State and Local Governments. Within part 13, § 13.36 covers procurement standards that must be followed for any mapping related activities for which the CTP wishes to contract with another party. Items in this Part include, but are not limited to, contract administration and record keeping, notification requirements, review procedures, competition, methods of procurement, cost and pricing analysis. If desired, FEMA will provide assistance on developing selection criteria for contracted tasks. All work must meet the standards requirements and certification requirements described in sections (e) and (f) of this document.

We will continue to evaluate these criteria and will further enhance them in subsequent years as necessary.

(d) Activities. All of the eligible activities listed below contain the following benefits for both the CTP partner and for FEMA:

• Local capabilities in hazard identification and risk assessment—the building blocks for disaster resistance—will be enhanced through FEMA technical assistance, experience, standards, and funding;

• The data, methods, and mapping used for local, regional, and state permitting processes will also be used for NFIP mapping, to the extent possible;

• Close coordination and involvement in the flood hazard mapping process will result in more efficient local floodplain management by the CTC;

• The program has the potential to interject a tailored, local focus into a national program where unique conditions may exist that necessitate special approaches to flood hazard identification.

• By incorporating local knowledge and expertise, we expect that National Flood Insurance Program flood hazard maps will be more accurate and can be updated faster than current procedures allow.

Mapping Activity Statements will support the development of flood hazard mapping or a component of the production and maintenance of flood hazard mapping. We will collaborate with the CTP on these mapping activities. We may provide technical assistance, support, and data to the CTP and in some cases funding may also be available. The following mapping activities may receive funding in Fiscal Year 20001 through a cooperative agreement with us:

Activity | Partner | Description
Refinement of Approximate Zone A Boundaries | Community/Regional State Agency | The CTP works with FEMA to perform analyses to refine Zone A boundaries. Emphasis placed on automation techniques.
Hydrologic & Hydraulic (H&H) Modeling and Floodplain Mapping | Community/Regional State Agency | The CTP develops digital engineering data and floodplain mapping using GIS-based or traditional H&H modeling.
DFIRM Preparation | Community/Regional/State Agency | The CTP digitizes the effective FIRM into a DFIRM.
Redelineation of Detailed Flood Hazard Information Using Updated Topographic Data | Community/Regional/State Agency | The CTP redelineates the effective flood hazard information using more up-to-date topographic data. GIS is used, where available.

While no funding will be provided to CTPs for the following mapping activities, we may provide technical assistance, support, and data to the CTP:

Activity | Partner | Description
Base Map Inventory | Regional or State Agency | The CTP performs an investigation and provides an inventory of base maps meeting FEMA's specifications for NFIP communities in the state.
Digital Base Map Data Sharing | Community/Regional/State Agency | The CTP supplies a base map for DFIRM production. The base map will comply with FEMA's minimum accuracy requirements and be distributable by FEMA to the public (hardcopy and electronic formats).
DFIRM Maintenance | Community/Regional/State Agency | The CTP assumes responsibility for long-term, periodic maintenance of the DFIRM. This can include base map and/or flood information.
Hydrologic and Hydraulic Review Agreement—*This activity is currently being considered as a pilot activity | Community/Regional/State Agency | The CTP evaluates H&H studies prepared for flood data updates and/or 44 CFR Part 65 map revisions. The review will focus on compliance with the technical and regulatory requirements contained in FEMA's various flood mapping guidelines and specifications, the pertinent NFIP flood mapping regulations, as well as standard accepted engineering practices.
Analysis of Community Mapping Needs (to support FEMA's Mapping Needs Update Support System (MNUSS)) | Regional/State Agency | The CTP performs a detailed community-by-community investigation and assessment of every NFIP community's mapping needs, including flood data updates, map maintenance, and includes unmapped communities.
Technical Standards Agreement | Community/Regional/State Agency | Adoption of specific technical standards or processes appropriate for local conditions for NFIP flood mapping purposes.

(e) Standards. Unless otherwise indicated in specific Mapping Activity Statements, all flood hazard identification activities will be accomplished according to the relevant portions of 44 CFR parts 59-77, as well as the technical standards contained in FEMA's Guidelines and Specifications for Study Contractors (FEMA 37) dated 1/95 and FEMA's Guidelines and Specifications for Flood Map Production Coordination Contractors dated 2/17/99, and all subsequent revision to these documents.

(f) Certification. All data generated under CTP Mapping Activity Statements must meet the applicable certification requirements for the identification and publication of flood hazard information in Flood Insurance Rate Map (FIRM) form as indicated in 44 CFR, part 65, Identification and Mapping of Special Hazard Areas. For those States that have adopted more stringent mapping requirements that have been sanctioned by FEMA, all Mapping Activity Statements must be reviewed, coordinated with, and concurred upon by the State and all map products must meet State certification requirements.

(g) Evaluation Criteria. The performance of each CTP will be evaluated upon completion of the period of performance for each Mapping Activity Statement. This evaluation will determine the adequacy of the performance by the CTP and the eligibility for future Mapping Activity Statements to be initiated. Insufficient performance by the CTP may result in cancellation of FEMA funding at any point during the period of performance for a Mapping Activity Statement. Evaluation will be based upon the following criteria:

(1) The continued maintenance, (funded/supported by the CTP), for existing and/or future processes or systems in place to support mapping or data collection activities that contribute to flood hazard identification, e.g., continued data collection for changing flood hazards and related development, continued upgrades to data collection or mapping capabilities to incorporate new technologies, preparation of multi-year mapping or data collection plans, etc.

(2) The demonstrated commitment by the CTP for existing and continued support of flood hazard identification and mapping activities conducted with and by FEMA.

(3) Adherence to timeliness and completeness of report submittal to the Regional Office.

(4) Adherence to timeliness and completeness of mapping product submittal to the Regional Office.

(5) Quality of product(s) submitted to the Regional Office.

(6) Ability to cooperate and coordinate with the FEMA Regional Office, the Technical Services Division of the Mitigation Directorate in Washington, and/or FEMA's Mapping Coordination Contractor during all phases of the Mapping Activity as needed.

(h) Cooperating Technical Partners Regional Contacts.

Region 1: (Connecticut, Maine, Massachusetts, New Hampshire, Rhode Island, and Vermont), Dean Savramis, 442 J.W. McCormack POCH, Boston, MA 02109, Telephone: (617) 223-9564, (e-mail) dean.savramis@fema.gov.

Region 2: (New Jersey, New York, Puerto Rico, Virgin Islands), Paul Weberg, 26 Federal Plaza, Room 1337, New York, NY 10278, (212) 225-7229, (e-mail) paul.weberg@fema.gov.

Region 3: (Delaware, Maryland, Pennsylvania, Virginia, West Virginia, District of Columbia), Erik Rourke, 615 Chestnut Street, 6th Floor, Philadelphia, PA 19106, (215) 931-5665, (e-mail) erik.rourke@fema.gov.

Region 4: (Alabama, Florida, Georgia, Kentucky, Mississippi, North Carolina, South Carolina, Tennessee), Laura Algeo, 3003 Chamblee Tucker Rd., Atlanta, GA 30341, Telephone: (770) 220-5515, (e-mail) laura.algeo@fema.gov.

Region 5: (Illinois, Indiana, Michigan, Minnesota, Ohio, and Wisconsin), Ken Hinterlong, 536 S. Clark Street, 6th Floor, Chicago, IL 60605, Telephone: (312) 408-5529, (e-mail) ken.hinterlong@fema.gov.

Region 6: (Arkansas, Louisiana, New Mexico, Oklahoma, and Texas), Jack Quarles, FRC 800 North Loop 288, Denton, TX 76210, Telephone: (817) 898-5156, (e-mail) jack.quarles@fema.gov.

Region 7: (Iowa, Kansas, Missouri, and Nebraska), Bob Franke, 2323 Grand Avenue, Suite 900, Kansas City, MO 64108, Telephone: (816) 283-7073, (e-mail) bob.franke@fema.gov

Region 8: (Colorado, Montana, North Dakota, South Dakota, Utah, Wyoming), John Liou, Denver Federal Center, Bldg. 710, Box 25267, Denver, CO 80225, Telephone: (303) 235-4836, (e-mail) john.liou@fema.gov.

Region 9: (Arizona, California, Hawaii, Nevada, American Samoa, Guam), Les Sakumoto, Bldg. 105, Presidio of San Francisco, San Francisco, CA 94129, Telephone: (415) 923-7183, (e-mail) leslie.sakumoto@fema.gov.

Region 10: (Alaska, Idaho, and Oregon, Washington), Larry Basich, Federal Regional Center, 130-228th Street, Bothell, WA 98021, Telephone: (425) 487-4703, (e-mail) lawrence.basich@fema.gov.

Dated: June 4, 2001.
Margaret E. Lawless,
Acting Executive Associate Director for Mitigation.

[FR Doc. 01-14440 Filed 6-7-01; 8:45 am]

BILLING CODE 6718-04-U